SMALL BUSINESS ADMINISTRATION

Tribal Listening Sessions for Small Business Development Centers

AGENCY: U.S. Small Business Administration.

ACTION: Notice of tribal listening sessions; request for comments.

SUMMARY: The U.S. Small Business Administration (SBA or Agency) announces that it is holding tribal listening sessions in Washington, DC and New York, NY, concerning proposed revisions to the Small Business Development Centers (SBDC) Program regulations. Additionally, SBA requests comments and input on how best to propose policies or regulations to deliver business development services more efficiently and effectively to underserved communities in Indian Country. Testimony presented at these tribal listening sessions will become part of the administrative record for SBA's consideration when the Agency deliberates on approaches to changes in the regulations governing the SBDC Program.

DATES: The Tribal Listening Sessions dates are as follows:

1. Tuesday, July 18, 2023, 3:00 p.m. to 5:00 p.m. (EDT), Washington, DC. Pre-registration for this Tribal Listening Session is requested by July 14, 2023.

2. Thursday, July 20, 2023, 3:30 p.m. to 4:30 p.m. (EDT), New York, New York. Pre-registration for this Tribal Listening Session is requested by July 18, 2023.

ADDRESSES:

Meeting Locations:

1. The Tribal Listening Session in Washington, DC will be held at the National Museum of the American Indian, 300 Maryland Ave. SW, Washington, DC 20004. Commenters and attendees may participate in-person or remotely at this listening session.

2. The Tribal Listening Session in New York, New York will be held at the Native Edge Institute—New York, Hard Rock Hotel New York, 159 West 48th Street, New York, New York 10036.

Pre-registration: Send pre-registration requests to attend and/or testify to Chequita Carter of SBA's Office of Native American Affairs, U.S. Small Business Administration, 409 3rd Street SW, Washington, DC 20416; Chequita.Carter@sba.gov; or Facsimile to (202) 481-2177.

Comments: You may submit comments, identified by Regulations Identifier Number (RIN) 3245-AE05, by any of the following methods:

• Email: to Jackson S. Brossy, Assistant Administrator, Office of Native American Affairs, U.S. Small Business Administration, at onaa@sba.gov.

• Mail (for paper, disk, or CD-ROM submissions): to Jackson S. Brossy, Assistant Administrator, Office of Native American Affairs, U.S. Small Business Administration, 409 3rd Street SW, Washington, DC 20416.

Instructions: All submissions received will become part of the administrative record for any rulemaking resulting from these tribal listening sessions. As such, comments received may be posted on http://www.regulations.gov. If you wish to submit confidential business information (CBI) as defined in the User Notice at http://www.regulations.gov, please submit the comments to Jackson S. Brossy and highlight the information that you consider to be CBI and explain why you believe this information should be held confidential. SBA will make a final determination as to whether the comments will be published.

FOR FURTHER INFORMATION CONTACT: Chequita Carter, Program Assistant for SBA's Office of Native American Affairs, at Chequita.Carter@sba.gov or (202) 205-6680 or by facsimile to (202) 481-2177. This phone number can also be reached by individuals who are deaf or hard of hearing, or who have speech disabilities, through the Federal Communications Commission's TTY-Based Telecommunications Relay Service teletype service at 711.

SUPPLEMENTARY INFORMATION:

I. Background

SBA published an advanced notice of proposed rulemaking (ANPRM) on April 2, 2015, 80 FR 17708, seeking comments on the development of new definitions, clarification of existing program requirements, and the renewal or termination of the notice of award in the SBDC Program. The ANPRM also solicited comments on international trade counselor certification requirements, required steps for the selection of Lead Center Directors, procedures for international travel, and procedures regarding the suspension, termination or nonrenewal of an SBDC's cooperative agreement.

SBA received 133 comments on this ANPRM, most of which generally fell into four categories: the role of the District Office, definitions/clarifications, client confidentiality, and the Lead Center Director hiring process. After considering these comments, on December 13, 2023, SBA published a proposed rule concerning the SBDC Program under RIN 3245-AE05 with the following proposed revisions. 87 FR 76127. First, SBA proposed to clarify and define the role of the District Office regarding grant oversight activities by proposing new definitions and procedures throughout program regulations. Second, SBA proposed the addition of 23 new definitions and the revision of existing definitions to explicitly define and clarify the various roles, procedures, documents, and categories of funding. Third, SBA proposed a new section to codify SBDC client confidentiality requirements under the Small Business Development Centers Act of 1980 (Pub. L. 96-302, 94 Stat. 833). Finally, the rule proposed to add the current process of hiring a Lead Center Director, as outlined in the cooperative agreement. The intent of these changes was to make SBDC Program operations more streamlined and less onerous for recipient organizations and the Agency and to align with current practices required under the notice of funding opportunity and cooperative agreement. The majority of the proposed changes were already required and implemented by the SBDCs; however, the proposed regulations sought to formally promulgate existing requirements in the SBDC Program regulations to ensure consistency. In addition, the rule proposed to incorporate the Uniform Guidance at 2 CFR part 200, which streamlined and consolidated government requirements for receiving and using Federal awards to reduce administrative burden and improve outcomes. SBA specifically requested comments on these proposed revisions to the SBDC Program regulations.

The Agency is aware of recent studies indicating that geographic and other barriers limit access to in-person SBDC services in Native communities nationwide. SBA is seeking comments and input on approaches to improve access to SBDC Program Services in Native communities.

II. Tribal Listening Sessions

The purpose of these tribal listening sessions is to provide interested parties with an opportunity to discuss their views on the issues; and for SBA to obtain the views of SBA's stakeholders on approaches to the SBDC Program regulations. SBA considers tribal listening sessions a valuable component of its deliberations and believes that these tribal listening sessions will allow for constructive dialogue with the Tribal community, Tribal Leaders, Tribal Elders, elected members of Alaska Native Villages or their appointed representatives, and principals of tribally-owned and Alaska Native Corporation (ANC)-owned firms participating in SBA's programs.

The format of these tribal listening sessions will consist of a panel of SBA representatives who will preside over the session. The oral and written testimony as well as any comments SBA receives will become part of the administrative record for SBA's consideration. Written testimony may be submitted in lieu of oral testimony. SBA will analyze the testimony, both oral and written, along with any written comments received. SBA officials may ask questions of a presenter to clarify or further explain the testimony. The purpose of the tribal consultation is to assist SBA with gathering information to guide SBA's review process and to potentially develop new proposals. SBA requests that the comments focus on SBA's proposed rulemaking concerning the SBDC Program, general issues as they pertain to the SBDC Program, or the unique concerns of the Tribal communities. SBA requests that commenters do not raise issues pertaining to other SBA small business programs. Presenters are encouraged to provide a written copy of their testimony. SBA will accept written material that the presenter wishes to provide that further supplements his or her testimony. Electronic or digitized copies are encouraged.

Each tribal listening session will be held for one day. The meeting in Washington, DC will begin at 3 p.m. and end at 5 p.m. (EDT); and the meeting in New York, New York will begin at 3:30 p.m. and end at 4:30 p.m. (EDT). SBA will adjourn early if all those scheduled have delivered their testimony.

III. Registration

SBA respectfully requests that any elected or appointed representative of the tribal communities or principal of a tribally-owned, or ANC-owned firm that is interested in attending please pre-register in advance and indicate whether you would like to testify at the hearing. However, pre-registration is not required for attendance. SBA requests that attendees register with SBA no later than: July 14, 2023, for the listening session in Washington; and July 18, 2023, for the listening session in New York. To register, please contact Chequita Carter of SBA's Office of Native American Affairs in writing at Chequita.Carter@sba.gov or by facsimile to (202) 481-2177. If you are interested in testifying, please include the following information relating to the person testifying: Name, Organization affiliation, Address, Telephone number, Email address and Fax number. For those who wish to remotely attend the session in Washington, DC, SBA will provide further instructions upon registration. SBA will attempt to accommodate all interested parties that wish to present testimony. Based on the number of registrants it may be necessary to impose time limits to ensure that everyone who wishes to testify has the opportunity to do so. SBA will confirm in writing the registration of presenters and attendees.

IV. Information on Service for Individuals With Disabilities

For information on facilities or services for individuals with disabilities or to request special assistance at the listening session, contact Chequita Carter at the telephone number or email address indicated under the FOR FURTHER INFORMATION CONTACT section of this notice.

Authority: 15 U.S.C. 634 and E.O. 13175, 65 FR 67249.

Jackson S. Brossy,
Assistant Administrator, Office of Native American Affairs.

[FR Doc. 2023-13433 Filed 6-23-23; 8:45 am]

BILLING CODE 8026-09-P